DEPARTMENT OF AGRICULTURE

Grain Inspection, Packers and Stockyards Administration

United States Standards for Whole Dry Peas, Split Peas, and Lentils

AGENCY: Grain Inspection, Packers and Stockyards Administration, USDA.

ACTION: Final notice.

SUMMARY: The Grain Inspection, Packers and Stockyards Administration (GIPSA) is revising the U.S. Standards for Whole Dry Peas, Split Peas, and Lentils to provide applicants for service with an optional grade designation for pea and lentil certification and to remove the requirement that, in the case of Mixed Dry Peas, the percentage of each class in the mixture be shown on the grade line. These changes will facilitate use of the standards and better reflect current marketing practices.

DATES: Effective Date: December 19, 2008.

FOR FURTHER INFORMATION CONTACT: Beverly A. Whalen at USDA, GIPSA, FGIS, Market and Program Analysis Staff, Beacon Facility, STOP 1404, P.O. Box 419205, Kansas City, Missouri, 64141; telephone (816) 823-4648; fax number (816) 823-4644; e-mail Beverly.A.Whalen@usda.gov.

SUPPLEMENTARY INFORMATION:

Background

GIPSA published a notice in the Federal Register on April 17, 2007 (72 FR 19169), inviting comments regarding the revision of the U.S. Standards for Whole Dry Peas, Split Peas, and Lentils to provide applicants for service with an optional grade designation for pea and lentil certification and remove the requirement that, for Mixed Dry Peas, the percentage of each class in the mixture be shown on the grade line. The notice provided an opportunity for interested parties to forward written comments to GIPSA until May 17, 2007. Due to a continued high level of interest in the notice, on February 1, 2008 (73 FR 6112), GIPSA reopened the comment period until April 1, 2008, to provide interested parties with additional time in which to comment.

The U.S. Standards for Whole Dry Peas, Split Peas, and Lentils do not appear in the Code of Federal Regulations; the U.S. Department of Agriculture maintains the standards. The process for developing or revising these standards is specified in the regulations in 7 CFR 868.102, Procedures for establishing and revising grade standards. You may view or print the U.S. Standards for Whole Dry Peas, Split Peas, and Lentils from the GIPSA Web site at http://www.gipsa.usda.gov or by contacting GIPSA by phone, fax, or e-mail using the information provided above under FOR FURTHER INFORMATION CONTACT.

Comment Review

GIPSA received one comment from the USA Dry Pea & Lentil Council (USADPLC), a national organization of producers, processors, and exporters of U.S. dry peas, lentils, and chickpeas. The USADPLC comment supported the proposed changes.

Final Action

Accordingly, GIPSA is revising the U.S. Standards for Whole Dry Peas, Split Peas, and Lentils to provide applicants for service with an optional grade designation for pea and lentil certification and to remove the requirement that, in the case of Mixed Dry Peas, the percentage of each class in the mixture be shown on the grade line. These changes will facilitate use of the standards and better reflect current marketing practices.

Authority: 7 U.S.C. 1621-1627.

Terry Van Doren,
Administrator, Grain Inspection, Packers and Stockyards Administration.

[FR Doc. E8-27400 Filed 11-18-08; 8:45 am]

BILLING CODE 3410-KD-P